DEPARTMENT OF AGRICULTURE

Foreign Agricultural Service

Trade Adjustment Assistance for Farmers

AGENCY: Foreign Agricultural Service, USDA.

ACTION: Notice.

The Administrator, Foreign Agricultural Service (FAS), today accepted a petition filed by the US Rice Producers Association, Houston, Texas, for trade adjustment assistance. The Administrator will determine within 40 days whether or not imports of rice contributed importantly to a decline in domestic producer prices of more than 20 percent during the marketing period beginning August 2002 and ending July 2003. If the determination is positive, all producers represented by the group will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: November 17, 2003.
Kenneth J. Roberts,
Acting Administrator, Foreign Agricultural Service.

[FR Doc. 03-30183 Filed 12-03-03; 8:45 am]

BILLING CODE 3410-10-M